DEPARTMENT OF TRANSPORTATION

Federal Aviation Administration

14 CFR Part 73

[Docket No. FAA-2013-0371; Airspace Docket No. 12-ANM-14]

RIN 2120-AA66

Amendment of Restricted Areas R-6703A, B, C, D; and Establishment of Restricted Areas R-6703E, F, G, H, I, and J; WA

AGENCY: Federal Aviation Administration (FAA), DOT.

ACTION: Final rule.

SUMMARY: This action modifies the internal boundaries of R-6703 by further subdividing the airspace from the current four subareas (A through D) to ten subareas (A through J). This change is totally contained within the current outer boundaries of R-6703. The designated altitudes and time of designation remain as currently published. In addition, the name “Fort Lewis, WA,” in the titles of the restricted areas is changed to “Joint Base Lewis-McChord, WA. The name of the using agency is changed from “Commanding General, Fort Lewis, WA,” to “Joint Base Garrison Commander, Joint Base Lewis-McChord, WA.” The name changes are the result of Department of Defense organizational consolidations. In addition to better accommodating training requirements, this also allows more efficient use of airspace through increased ability to activate only those subareas actually needed for the mission.

DATES: Effective date 0901 UTC, June 27, 2013.

FOR FURTHER INFORMATION CONTACT: Paul Gallant, Airspace Policy and ATC Procedures Group, Federal Aviation Administration, 800 Independence Avenue SW., Washington, DC 20591; telephone: (202) 267-8783.

SUPPLEMENTARY INFORMATION:

Background

Restricted Area R-6307 is located at Fort Lewis in Washington State. R-6307 is currently divided into 4 subareas, designated A, B, C, D. These subareas established in the 1950's, no longer efficiently accommodate effective training. The U.S. Army requested the FAA take action to reconfigure the internal alignment and boundaries of R-6307 by adding 6 more subareas to the restricted area, designated E, F, G, H, I, J. The changes are confined within the current restricted area boundaries and do not alter the existing geographic foot print or altitudes of the R-6703 complex. This reconfiguration will simplify the restricted area layout and eliminate much of the coordination and deconfliction actions currently required during training missions. Restructuring the restricted area complex ensures a safer and more effective training environment while allowing for more efficient airspace usage by military and civilian users.

Finally, the name of the using agency for all of the restricted areas is changed to reflect the new organizational title.

The Rule

This action realigns the internal boundaries for restricted areas R-6703A, B, C, D and establishes R-6703E, F, G, H, I and J. Additionally, it changes the title of the restricted areas from “Fort Lewis, WA” to “Joint Base Lewis-McChord, WA.” The name of the using agency for all of the restricted areas is changed from “Commanding General, Fort Lewis, WA” to “Joint Base Garrison Commander, Joint Base Lewis-McChord, WA.” These name changes are the result of Department of Defense organizational consolidations and do not affect the use of the restricted areas.

This rule is an administrative change to realign the internal boundaries of existing restricted airspace and update the name of the using agency. These changes do not expand restricted airspace beyond the current lateral or vertical boundaries, or increase the available times of use, or alter the activities conducted within the restricted areas. Therefore, I find that notice and public procedure under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies restricted area airspace to support military requirements at Joint Base Lewis McChord, WA.

Environmental Review

The FAA has reviewed the above referenced action according to Department of Transportation Order 5610.1C, “Procedures for Considering Environmental Impacts” and FAA Order 1050.1E, “Environmental Impacts: Policies and Procedures.” The referenced action consists of minor adjustments of established special use air space as described in FAA Order 1050.1E paragraph 401p (5), and does not require an environmental assessment. Additionally, the implementation of this action will not result in any extraordinary circumstances in accordance with Order 1050.1E paragraph 304 that warrant further environmental review.

List of Subjects in 14 CFR Part 73

Airspace, Prohibited Areas, Restricted Areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.67 [Amended]

2. § 73.67 is amended as follows:

* * * * *

1. R-6703A Fort Lewis, WA [Removed]

2. R-6703B Fort Lewis, WA [Removed]

3. R-6703C Fort Lewis, WA [Removed]

4. R-6703D Fort Lewis, WA [Removed]

5. R-6703A Joint Base Lewis-McChord, WA [New]

Boundaries. Beginning at lat. 47°03″ 07″ N., long. 122°41″ 09″ W.; to lat. 47°04″ 34″ N., long. 122°41″ 09″ W.; to lat. 47°04″ 41″ N., long. 122°38″ 19″ W.; to lat. 47°03″ 37″ N., long. 122°35″ 40″ W.; to lat. 47°03″ 15″ N., long. 122°35″ 48″ W.; to lat. 47°03″ 06″ N., long. 122°36″ 51″ W.; to lat. 47°02″ 02″ N., long. 122°37″ 33″ W.; to lat. 47°02″ 06″ N., long. 122°38″ 33″ W.; to lat. 47°02″ 14″ N., long. 122°38″ 53″ W.; to lat. 47°02″ 19″ N., long. 122°39″ 14″ W.; to lat. 47°02″ 19″ N., long. 122°39″ 37″ W.; to lat. 47°02″ 21″ N., long. 122°40″ 17″ W.; to lat. 47°02″ 38″ N., long. 122°40″ 39.″ W.; Thence via the Nisqually River to the point of beginning.

Designated altitudes. Surface to 14,000 feet MSL.

Time of designation. 0700-2300 Monday-Friday; other times by NOTAM two hours in advance.

Controlling agency. FAA, Seattle TRACON.

Using agency. Joint Base Garrison Commander, Joint Base Lewis-McChord, WA.

6. R-6703B Joint Base Lewis-McChord, WA [New]

Boundaries. Beginning at lat. 47°01″ 32″ N., long. 122°36″ 28″ W.; to lat. 47°01″ 32″ N., long. 122°36″ 51″ W.; to lat. 47°01″ 42″ N., long. 122°37″ 12″ W.; to lat. 47°02″ 02″ N., long. 122°37″ 33.″ W.; to lat. 47°03″ 06″ N., long. 122°36″ 51″ W.; to lat. 47°03″ 15″ N., long. 122°35″ 48″ W.; to the point of beginning.

Designate altitudes. Surface to 14,000 feet MSL.

Time of designation. 0700-2300 Monday-Friday; other times by NOTAM two hours in advance.

Controlling agency. FAA, Seattle TRACON.

Using agency Joint Base Garrison Commander, Joint Base Lewis-McChord, WA.

7. R-6703C Joint Base Lewis-McChord, WA [New]

Boundaries. Beginning at lat. 46°59″ 19″ N., long. 122°37″ 19″ W.; to lat. 46°59″ 15″ N., long. 122°37″ 56″ W.; Thence via the Nisqually River to lat. 47°00″ 32″ N., long. 122°38″ 59″ W.; to lat. 47°00″ 47″ N., long. 122°39″ 04″ W.; to lat. 47°00″ 57″ N., long. 122°39″ 20″ W.; to lat. 47°01″ 10″ N., long. 122°39″ 26″ W.; to lat. 47°01″ 22″ N., long. 122°39″ 45″ W.; to lat. 47°01″ 42″ N., long. 122°39″ 49″ W.; to lat. 47°02″ 00″ N., long. 122°39″ 59″ W.; to lat. 47°02″ 21″ N., long. 122°40″ 17″ W.; to lat. 47°02″ 19″ N., long. 122°39″ 37″ W.; to lat. 47°02″ 19″ N., long. 122°39″ 14″ W.; to lat. 47°02″ 14″ N., long. 122°38″ 53″ W.; to lat. 47°02″ 06″ N., long. 122°38″ 33″ W.; to lat. 47°02″ 02″ N., long. 122°37″ 33″ W.; to lat. 47°01″ 42″ N., long. 122°37″ 12″ W.; to lat. 47°01″ 32″ N., long. 122°36″ 51″ W.; to lat. 47°01″ 32″ N., long. 122°36″ 28″ W.; to the point of beginning.

Designated altitudes. Surface to 14,000 feet MSL.

Time of designation. 0700-2300 Monday-Friday; other times by NOTAM two hours in advance.

Controlling agency. FAA, Seattle TRACON.

Using agency. Joint Base Garrison Commander, Joint Base Lewis-McChord, WA.

8. R-6703D Joint Base Lewis-McChord, WA [New]

Boundaries. Beginning at lat. 46°57″ 11″ N., long. 122°38″ 51″ W.; to lat. 46°57″ 12″ N., long. 122°43″ 42″ W.; to lat. 47°03″ 07″ N., long. 122°41″ 09″ W.; to lat. 47°02″ 56″ N., long. 122°40″ 49″ W.; to lat. 47°02″ 41″ N., long. 122°40″ 48″ W.; to lat. 47°02″ 38″ N., long. 122°40″ 39″ W., to lat. 47°02″ 21″ N,. long. 122°40″ 17″ W.; to lat. 47°02″ 00″ N., long. 122°39″ 59″ W.; to lat. 47°01″ 42″ N., long. 122°39″ 49″ W.; to lat. 47°01″ 22″ N., long. 122°39″ 45″ W.; to lat. 47°01″ 10″ N., long. 122°39″ 26″ W.; to lat. 47°00″ 57″ N., long. 122°39″ 20″ W.; to lat. 47°00″ 47″ N., long. 122°39″ 04″ W.; to lat. 47°00″ 32″ N., long. 122°38″ 59″ W.; Thence via the Nisqually River to lat. 46°59″ 15″ N., long. 122°37″ 56″ W.; to lat. 46°59″ 19″ N., long. 122°37″ 19″ W.; to lat. 46°58″ 16″ N., long. 122°37″ 44″ W.; to the point of beginning.

Designation altitudes. Surface to 14,000 feet MSL.

Time of designation. 0700-2300 Monday-Friday; other times by NOTAM two hours in advance.

Controlling agency. FAA, Seattle TRACON.

Using Agency Joint Base Garrison Commander, Joint Base Lewis-McChord, WA.

9. R-6703E Joint Base Lewis-McChord, WA [New]

Boundaries. Beginning at lat. 46°57″ 11″ N., long. 122°38″ 51″ W.; to lat. 46°54″ 34″ N., long. 122°41″ 29″ W.; to lat. 46°54″ 17″ N., long. 122°43″ 36″ W.; to lat. 46°55″ 11″ N., long. 122°44″ 34″ W.; to lat. 46°57″ 12″ N., long. 122°43″ 42″ W.; to the point of beginning.

Designated altitudes. Surface to 14,000 feet MSL.

Time of designation. 0700-2300 Monday-Friday; other times by NOTAM two hours in advance.

Controlling agency. FAA, Seattle TRACON.

Using agency. Joint Base Garrison Commander, Joint Base Lewis-McChord, WA.

10. R-6703F Joint Base Lewis-McChord, WA [New]

Boundaries. Beginning at lat. 47°01″ 32″ N., long. 122°36″ 28″ W.; to lat. 47°03″ 37″ N., long. 122°35″ 40″ W.; to lat. 47°02″ 47″ N., long. 122°33″ 40″ W.; to lat. 47°02″ 43″ N., long. 122°34″ 06″ W.; to lat. 47°02″ 26″ N., long. 122°34″ 22″ W.; to lat. 47°02″ 08″ N., long. 122°34″ 38″ W.; to lat. 47°02″ 02″ N., long. 122°34″ 52″ W.; to lat. 47°01″ 57″ N., long. 122°35″ 05″ W.; to lat. 47°01″ 37″ N., long. 122°35″ 37″ W.; to lat. 47°01″ 32″ N., long. 122°36″ 05″ W.; to the point of beginning.

Designated altitudes. Surface to 5,000 feet MSL.

Time of designation. 0700-2300 Monday-Friday; other times by NOTAM two hours in advance.

Controlling agency. FAA, Seattle TRACON.

Using agency. Joint Base Garrison Commander, Joint Base Lewis-McChord, WA.

11. R-6703G Joint Base Lewis-McChord, WA [New]

Boundaries. Beginning at lat. 47°01′29″ N., long. 122°34′02″ W.; to lat. 47°02′26″ N., long. 122°34′22″ W.; to lat. 47°02′43″ N., long. 122°34′06″ W.; to lat. 47°02′47″ N., long. 122°33′40″ W.; to lat. 47°02′13″ N., long. 122°32′19″ W.; to lat. 47°01′47″ N., long. 122°31′42″ W.; to lat. 47°01′28″ N., long. 122°31′42″ W.; to the point of beginning.

Designated altitudes. Surface to 5,000 feet MSL.

Time of designation. 0700-2300 Monday-Friday; other times by NOTAM two hours in advance.

Controlling agency. FAA, Seattle TRACON.

Using agency. Joint Base Garrison Commander, Joint Base Lewis-McChord, WA.

12. R-6703H Joint Base Lewis-McChord, WA [New]

Boundaries. Beginning at lat. 46°59′19″ N., long. 122°37′19″ W.; to lat. 47°01′32″ N., long. 122°36′28″ W.; to lat. 47°01′32″ N., long. 122°36′05″ W.; to lat. 47°01′37″ N., long. 122°35′37″ W.; to lat. 47°01′57″ N., long. 122°35′05″ W.; to lat. 47°02′02″ N., long. 122°34′52″ W.; to lat. 47°00′45″ N., long. 122°34′52″ W.; to lat. 46°59′59″ N., long. 122°35′39″ W.; to lat. 46°59′20″ N., long. 122°36′27″ W.; to the point of beginning.

Designated altitudes. Surface to 5,000 feet MSL.

Time of designation. 0700-2300 Monday-Friday; other times by NOTAM two hours in advance.

Controlling agency. FAA, Seattle TRACON.

Using agency. Joint Base Garrison Commander, Joint Base Lewis-McChord, WA.

13. R-6703I Joint Base Lewis-McChord, WA [New]

Boundaries. Beginning at lat. 46°59′59″ N., long. 122°35′39″ W.; to lat. 47°00′45″ N., long. 122°34′52″ W.; to lat. 47°02′02″ N., long. 122°34′52″ W.; to lat. 47°02′08″ N., long. 122°34′38″ W.; to lat. 47°02′26″ N., long. 122°34′22″ W.; to lat. 47°01′29″ N., long. 122°34′02″ W.; to lat. 47°01′28″ N., long. 122°31′42″ W.; to lat. 47°00′59″ N., long. 122°31′41″ W.; to lat. 47°00′41″ N., long. 122°33′16″ W.; to lat. 47°00′29″ N., long. 122°33′20″ W.; to the point of beginning.

Designated altitudes. Surface to 5,000 feet MSL.

Time of designation. 0700-2300 Monday-Friday; other times by NOTAM two hours in advance.

Controlling agency. FAA, Seattle TRACON.

Using agency. Joint Base Garrison Commander, Joint Base Lewis-McChord, WA.

14. R-6703J Joint Base Lewis-McChord, WA [New]

Boundaries. Beginning at lat. 46°58′16″ N., long. 122°37′44″ W.; to lat. 46°59′19″ N., long. 122°37′19″ W.; to lat. 46°59′20″ N., long. 122°36′27″ W.; to the point of beginning.

Designated altitudes Surface to 5,000 feet MSL.

Time of designation. 0700-2300 Monday-Friday; other times by NOTAM two hours in advance.

Controlling agency. FAA, Seattle TRACON.

Using agency. Joint Base Garrison Commander, Joint Base Lewis-McChord, WA.

* * * * *

Issued in Washington, DC on April 22, 2013.
Gary A. Norek,
Manager, Airspace Policy and ATC Procedures Group.

[FR Doc. 2013-10040 Filed 4-26-13; 8:45 am]

BILLING CODE 4910-13-P